DEPARTMENT OF HEALTH AND HUMAN SERVICES

Health Resources and Services Administration

Agency Information Collection Activities: Proposed Collection: Comment Request

In compliance with the requirement for opportunity for public comment on proposed data collection projects (section 3506(c)(2)(A) of Title 44, United States Code, as amended by the Paperwork Reduction Act of 1995, Pub. L. 104-13), the Health Resources and Services Administration (HRSA) publishes periodic summaries of proposed projects being developed for submission to OMB under the Paperwork Reduction Act of 1995. To request more information on the proposed project or to obtain a copy of the data collection plans and draft instruments, call the HRSA Reports Clearance Officer on (301) 443-1129.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: HRSA Grantee Telecommunications and Telehealth Inventory and Database—New

The Health Resources and Services Administration's (HRSA) mission is to improve and expand access to quality health care for all. Through its grant program, HRSA provides funds to ensure the availability of quality health care to low income, uninsured, isolated, vulnerable and special needs populations.

Within HRSA, the Office for the Advancement of Telehealth (OAT) increases access to quality health care services for the underserved by promoting the use of advanced telecommunications and information technologies by health care providers across America. HRSA is a leading national supporter and developer of telehealth, which is the use of electronic information and telecommunications technologies for a wide variety of health-related activities. These include long-distance clinical care, patient and professional education, and health administration.

HRSA provides grant funding to over 8000 recipients to improve healthcare delivery in the United States. Those offices and programs increasingly depend on the emerging technologies and telecommunications systems to deliver healthcare, yet no data is available on grant recipients' access to or utilization of those technologies. The proposed inventory will serve as a model for collecting this type of information across a disparate group of projects nationally and if successful will be ultimately integrated into HRSA's overall data system.

All grantees will be asked to address access to telehealth technologies at their respective institutions. Telehealth activities include the practice of telemedicine, delivery of distance education, health informatics, healthcare staff supervision from remote sites, and the provision of consumer health information using telecommunications technologies. Additionally, grantees will be asked to provide information on their network members or satellite site. For those grantees practicing telemedicine, the survey will include a section on diagnostic tools and clinical capabilities.

The survey will be delivered via the world wide web; hard copy will be made available for those grantees with no Internet access. Substantive questions may be systematically included in the grantees' progress reporting.

Estimated burden hours:

Type of survey | Number of respondents | Number of responses per respondent | Total Number of responses | Hours per response | Total burden hours
Web-based | 7,965 | 1 | 7,965 | .17 | 1,355
Hard-copy | 885 | 1 | 885 | .20 | 177
Total | 8,850 |  | 8,850 |  | 1,532

Send comments to Susan G. Queen, Ph. D., HRSA Reports Clearance Officer, Room 11A-33, Parklawn Building, 5600 Fishers Lane, Rockville, MD 20857. Written comments should be received within 60 days of this Notice.

Dated: October 25, 2002.
Jane M. Harrison,
Director, Division of Policy Review and Coordination.

[FR Doc. 02-27678 Filed 10-30-02; 8:45 am]

BILLING CODE 4165-15-P